DEPARTMENT OF TRANSPORTATION

Federal Aviation Administration

14 CFR Parts 21 and 121

[Docket No. FAA-2002-6717; Notice No. 03-11]

RIN 2120-AI03

Extended Operations (ETOPS) of Multi-engine Airplanes; Correction

AGENCY: Federal Aviation Administration (FAA), DOT.

ACTION: Proposed rule; correction.

SUMMARY: This document makes corrections to the proposed rule published in the Federal Register on November 14, 2003 (68 FR 64730), which proposes to issue regulations governing the design, maintenance, and operation of airplanes and engines for flights that go beyond certain distances from an adequate airport. This correction is necessary to correct an inadvertent omission and incorrect numbering.

FOR FURTHER INFORMATION CONTACT: Eric vanOpstal, (202) 267-3774; or E-mail: eric.vanopstal@faa.gov.

Correction

In proposed rule FR Doc. 03-28407, published on November 14, 2003 (68 FR 64730), make the following corrections:

1. On page 64786, in the second column, correct § 21.4 by adding paragraph (c) to read as follows:

§ 21.4 ETOPS reporting requirements.

* * * * *

(c) Corrective action if in-flight shutdown rates are exceeded. If the in-flight shutdown rate exceeds the requirements in paragraph (b)(2) of this section, the certificating office of the FAA will review the in-flight shut down rate to determine if an unsafe condition that requires mandatory corrective action as specified by part 39 of this chapter exists. The rates contained in paragraph (b)(2) of this section are worldwide fleet rates applicable to ETOPS type design holders for a given airplane-engine type combination, and are not air carrier or operator specific.

§ 121.646 [Corrected]

2. On page 64794, in the second column, correct § 121.646(b)(3) by revising the reference “(b)(1)(i)” to read “(b)(1)” each place it appears.

3. On page 64794, in the second column, correct § 121.646 (b)(4) by revising the reference “(b)(1)(i)” to read “(b)(1)'.

4. On page 64794, in the second column, correct § 121.646 by redesignating paragraphs (b)(4)(C) and (b)(4)(D) as paragraphs (c) and (d), respectively.

Issued in Washington, DC, on December 30, 2003.
Donald P. Byrne,
Assistant Chief Counsel for Regulations.

[FR Doc. 04-71 Filed 1-2-04; 8:45 am]

BILLING CODE 4910-13-P